DEPARTMENT OF THE INTERIOR

Bureau of Land Management

[UT-060-5870-EU; UTU 79436]

Notice of Realty Action; Non-Competitive Sale of Public Land; Grand County, UT

AGENCY: Bureau of Land Management, Interior.

ACTION: Notice of realty action.

SUMMARY: The Bureau of Land Management (BLM) has examined and determined that 50 acres of public land (2 parcels) located in Grand County, Utah are suitable for disposal by direct (non-competitive) sale to the Palladium Foundation LLC, the adjacent landowner, at no less than the appraised fair market value, pursuant to Sections 203 and 209 of the Federal Land Policy and Management Act of 1976, as amended. The parcels are isolated from other public lands by adjacent private land and topography and are difficult to manage as part of the public lands. It has been determined that resource values will not be affected by the disposal of the two parcels as mitigated in the patent. The non-competitive sale is justified by lack of physical access to the lands by anyone other than the adjacent landowner. Disposal of the parcels will resolve historic use of the lands for livestock grazing and hay production which have been authorized by BLM under land use permit UTU-64085 since 1989. The permit will be terminated at the time of sale.

DATES: Interested parties may submit comments to the BLM Moab Field Office Manager, at the address below. Comments must be received no later than June 4, 2007. Only written comments will be accepted.

ADDRESSES: Address all written comments concerning this notice to the BLM Moab Field Manager, 82 East Dogwood Avenue, Moab, Utah 84532.

FOR FURTHER INFORMATION CONTACT: Mary von Koch, Realty Specialist, at the above address or at (435) 259-2128.

SUPPLEMENTARY INFORMATION: The following described lands in Grand County, Utah have been determined to be suitable for sale. The lands will be sold at no less than the fair market value established by appraisal at $50,000 by a certified appraiser.

Salt Lake Meridian, Utah

T. 21 S., R. 24 E.,

Sec. 27, E½NW¼SE¼, and NE¼SW¼SE¼;

Sec. 34, NE¼NE¼NE¼NE¼;

sec. 35, NE¼NW¼NW¼, N½NW¼NW¼NW¼, and SE¼NW¼NW¼NW¼.

The areas described contain 50 acres, more or less, in Grand County.

The sale meets the disposal criteria in Section 203 (a)(1) of FLPMA and 43 CFR 2710.0-3 (a)(3) because the location and topography of the parcels make them difficult and uneconomic to manage as part of the public lands and they are not suitable for management by another Federal department or agency. The sale meets the criteria for direct sale under 43 CFR 2711.3-3 (a)(3, 4, and 5) based on the fact that the public lands have been an integral part of agricultural use on the adjoining private land since the 1980s, they are isolated from other public lands by surrounding private ownership and topography, and the sale to the adjacent private owner would resolve a long-term occupancy of the public lands. The parcels were identified for disposal in the March 10, 1995, amendment to the BLM Grand Resource Area Resource Management Plan approved in July 1985, and therefore meet the disposal qualification of the Federal Land Transaction Facilitation Act of July 25, 2000 (FLTFA) (43 U.S.C. 2304). Proceeds from the sale will be deposited in the Federal Land Disposal Account for Utah pursuant to FLTFA.

The land will not be offered for sale until at least 60 days after the date of publication of this notice in the Federal Register. This land is being offered as a direct non-competitive sale to the adjacent landowner. The parcels are not required for any Federal purpose or program. Sale of the parcels is consistent with current BLM land use planning and would be in the public interest.

The terms and conditions applicable to the sale are:

1. All valid existing rights of record, including those documented on the official public land records at the time of sale.

2. A reservation to the United States for rights-of-way for ditches or canals under the Act of August 20, 1890 (26 Stat. 391; 43 U.S.C. 945).

No warranty of any kind, express or implied, is given by the United States as to the title, physical condition or potential uses of the parcels of land proposed for sale, and the conveyance of any such parcels will not be on a contingency basis. It is the buyer's responsibility to be aware of all applicable local government policies and regulations that would affect the subject lands. It is also the buyer's responsibility to be aware of existing or prospective uses of nearby properties. Any land lacking access from a public road or highway will be conveyed as such, and future access acquisition will be the responsibility of the buyer.

The mineral interests have been determined to have no known mineral value pursuant to 43 CFR 2720.2(a) and will be conveyed simultaneously with the sale of the land. Acceptance of a sale offer will constitute an application for conveyance of the mineral interests, and the purchaser will be required to pay a $50 non-refundable filing fee for conveyance of the mineral interests.

Upon publication of this notice in the Federal Register, the land described above will be segregated from appropriation under the public land laws, including the general mining laws. The segregation will end upon issuance of patent or 2 years from the date of publication, whichever occurs first. This segregation supersedes segregation of the lands under exchange application UTU-80475 which will terminate on the subject lands upon publication of this Notice in the Federal Register.

Detailed information concerning this land sale, including the reservations, sale procedures and conditions, appraisal, planning and environmental documents, and mineral report, is available for review at the BLM Moab Field Office.

Written comments must be received by the Moab Field Manager, at the address stated above, on or before the date stated above. Facsimiles, telephone calls, and e-mails are unacceptable means of notification. Comments including names and street addresses of respondents will be available for public review at the BLM Moab Field Office during regular business hours, except holidays. Before including your address, phone number, e-mail address, or other personal identifying information in your comment, be advised that your entire comment—including your personal identifying information-may be made publicly available at any time. While you can ask us in your comment to withhold from public review your personal identifying information, we cannot guarantee that we will be able to do so. Any adverse comments will be reviewed by the BLM Utah State Director, who may sustain, vacate or modify this realty action. In the absence of any objections, or adverse comments, the proposed realty action will become the final determination of the Department of the Interior.

(Authority: 43 CFR 2711.1-2(a))

Dated: January 19, 2007.
Margaret Wyatt,
Moab Field Office Manager.

[FR Doc. E7-7531 Filed 4-19-07; 8:45 am]

BILLING CODE 4310-DQ-P